DEPARTMENT OF THE TREASURY

Submission for OMB Review; Comment Request

July 22, 2014.

The Department of the Treasury will submit the following information collection requests to the Office of Management and Budget (OMB) for review and clearance in accordance with the Paperwork Reduction Act of 1995, Public Law 104-13, on or after the date of publication of this notice.

DATES: Comments should be received on or before August 27, 2014 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request may be found at www.reginfo.gov.

Alcohol and Tobacco Tax and Trade Bureau (TTB)

OMB Number: 1513-0101.

Type of Review: Extension without change of a currently approved collection.

Title: Marks and Notices on Packages of Tobacco Products, TTB REC 5210/13.

Abstract: TTB requires that tobacco products be identified by information on the packages and, in some cases, shipping containers of tobacco products. TTB uses this information to ensure that the tax is paid on tobacco products and that products removed without payment of tax for export are easily identified if diverted into the domestic market.

Affected Public: Private sector: Businesses or other for-profits.

Estimated Annual Burden Hours: 1.

OMB Number: 1513-0121.

Type of Review: Extension without change of a currently approved collection.

Title: Labeling of Major Food Allergens.

Abstract: The collection of information involves voluntary labeling of major food allergens used in the production of alcohol beverages and also involves petitions for exemption from full allergen labeling. The collection corresponds to the amendments to the FD&C Act in Title II of Public Law 108-282, 118 Stat. 905.

Affected Public: Private sector: Businesses or other for-profits.

Estimated Annual Burden Hours: 730.

Dawn D. Wolfgang,
Treasury PRA Clearance Officer.

[FR Doc. 2014-17637 Filed 7-25-14; 8:45 am]

BILLING CODE 4810-31-P